FEDERAL TRADE COMMISSION

16 CFR Part 305

Rule Concerning Disclosures Regarding Energy Consumption and Water Use of Certain Home Appliances and Other Products Required Under the Energy Policy and Conservation Act

CFR Correction

In Title 16 of the Code of Federal Regulations, parts 0 to 999, revised as of January 1, 2000, on page 288, in the appendices to Part 305, the second “Appendix A1 to Part 305” is removed.

[FR Doc. 00-55517 Filed 11-1-00; 8:45 am]

BILLING CODE 1505-01-D